DEPARTMENT OF HEALTH AND HUMAN SERVICES

Centers for Disease Control and Prevention

[Docket Number NIOSH 141-A]

Preventing Deaths and Injuries of Fire Fighters Using Risk Management Principles at Structure Fires

AGENCY: National Institute for Occupational Safety and Health (NIOSH) of the Centers for Disease Control and Prevention (CDC), Department of Health and Human Services (HHS).

ACTION: Notice of issuance of Final Guidance Publication.

SUMMARY: The National Institute for Occupational Safety and Health (NIOSH) of the Centers for Disease Control and Prevention (CDC) announces the availability of the publication entitled “Preventing Deaths and Injuries of Fire Fighters Using Risk Management Principles at Structure Fires.”

The final document can be found at: http://www.cdc.gov/niosh/docs/2010-153/.

Background and Summary of Document: NIOSH has developed this publication to assist the U.S. fire service in preventing fire fighter injuries and deaths at structure fires. Established fire service risk management principles suggest that caution should be exercised in abandoned, vacant and unoccupied structures and in situations where there is no clear evidence indicating that people are trapped inside the structure and can be saved. This publication summarizes fatality statistics from the National Fire Protection Association as well as the NIOSH Fire Fighter Fatality Investigation and Prevention Program (FFFIPP) databases. The publication describes four case studies on the deaths of five fire fighters and injuries to 10 others during fire suppression operations in and around structures with considerable fire involvement where there were indications that the structures were unoccupied. The publication presents a number of recommendations for preventing similar occurrences of fire fighter injuries and deaths. The primary audiences are expected to be fire commissioners, fire chiefs, fire department and municipal managers, fire fighters, labor unions, safety and health professionals, trainers, fire investigators, State fire marshals, and other interested parties.

This guidance publication does not have the force and effect of law.

Document Review Process: Following development of the initial draft, the document was reviewed by peers and external stakeholders within the fire service and revisions were made based upon these reviews. The revised draft document was posted in the Federal Register for public review and comment from January 5 to March 9, 2009. Public comments submitted to NIOSH Public Docket 141 can be viewed at the Web site http://www.cdc.gov/niosh/docket/nioshdocket0141.html. The draft document was revised to address these public comments. The most substantive revisions were to change the title and focus of the document from fighting fires in unoccupied structures to using established risk management principles at all structure fires, regardless of the occupancy status. The majority of comments received during the public comment period made it clear that the U.S. fire service would not support the recommendation that fire fighters avoid entering unoccupied structures, the focus of the original draft. A final draft containing revisions made to address comments received during the public comment period was reviewed by representatives from both the International Association of Fire Chiefs (IAFC) and the International Association of Fire Fighters (IAFF).

FOR FURTHER INFORMATION CONTACT: Timothy R. Merinar, Safety Engineer, Division of Safety Research, CDC/NIOSH, 1095 Willowdale Road, H1808, Morgantown, West Virginia 26505, Phone 304-285-5916, e-mail tmerinar@cdc.gov.

Reference: Web address for this document: http://www.cdc.gov/niosh/docs/2010-153/.

Dated: July 7, 2010.
John Howard,
Director, National Institute for Occupational Safety and Health, Centers for Disease Control and Prevention.

[FR Doc. 2010-17171 Filed 7-13-10; 8:45 am]

BILLING CODE 4163-19-P